DEPARTMENT OF ENERGY

Environmental Management Site-Specific Advisory Board Chairs

AGENCY: Department of Energy.

ACTION: Notice of open meeting.

SUMMARY: This notice announces a meeting of the Environmental Management Site-Specific Advisory Board (EM SSAB) Chairs. The Federal Advisory Committee Act (Pub. L. No. 92-463, 86 Stat. 770) requires that public notice of this meeting be announced in the Federal Register.

DATES: Wednesday, April 23, 2008, 8:30 a.m.-5 p.m., Thursday, April 24, 2008, 8:30 a.m.-4 p.m.

ADDRESSES: Red Lion Hotel Richland Hanford House, 802 George Washington Way, Richland, WA 99352, Phone: (509) 946-7611, Fax: (509) 943-8564.

FOR FURTHER INFORMATION CONTACT: E. Douglas Frost, Designated Federal Officer, U.S. Department of Energy, 1000 Independence Avenue, SW., Washington, DC 20585; Phone: (202) 586-5619.

SUPPLEMENTARY INFORMATION: Purpose of the Board: The purpose of the Board is to make recommendations to DOE in the areas of environmental restoration, waste management, and related activities.

Tentative Agenda

Wednesday, April 23, 2008

8:30 a.m. Welcome/Introductions.

9 a.m. Waste Disposition Presentation.

10 a.m. Break.

10:15 a.m. Round Robin: Top Three Site-Specific Issues.

11:15 a.m. EM Program Update.

12 p.m. Lunch.

1:30 p.m. Presentations:

• Budget Timelines and Process.

• Baselines and Five-Year Plan.

3:30 p.m. Break.

3:45 p.m. Open Discussion.

4:45 p.m. Public Comment Period.

5 p.m. Adjourn.

Thursday, April 24, 2008

8:30 a.m. Welcome and Review of Wednesday's Proceedings.

8:45 a.m. Engineering and Technology Update.

10:15 a.m. Break.

10:30 a.m. EM SSAB Product Development Discussion.

11:30 a.m. Public Comment Period.

12 p.m. Lunch Break.

1:15 p.m. DOE-HQ “News and Views”.

1:45 p.m. EM SSAB Product Wrap-Up.

3:45 p.m. Closing Remarks.

4 p.m. Adjourn.

Public Participation: The meeting is open to the public. Written statements may be filed either before or after the meeting with the Designated Federal Officer, E. Douglas Frost, at the address or telephone listed above. Individuals who wish to make oral statements pertaining to agenda items should also contact E. Douglas Frost. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling E. Douglas Frost at the address or phone number listed above. Minutes will also be available at the following Web site: http://www.em.doe.gov/stakepages/ssabchairs.aspx.

Issued at Washington, DC on March 25, 2008.
Rachel Samuel,
Deputy Committee Management Officer.

[FR Doc. E8-6519 Filed 3-28-08; 8:45 am]

BILLING CODE 6450-01-P